DEPARTMENT OF HOMELAND SECURITY

Coast Guard

33 CFR Part 100

[CGD07-06-174]

RIN 1625-AA08

Special Local Regulation; Sunfish World Championship Regatta, Charleston Harbor, SC

AGENCY: Coast Guard, DHS.

ACTION: Temporary final rule.

SUMMARY: The Coast Guard is establishing temporary special local regulations for the Sunfish World Championship Regatta located in Charleston Harbor, South Carolina. The event will run from October 1, 2006 through October 6, 2006. This Regulation is necessary to ensure safety and security during this international event, while also reducing the impact to commercial traffic in Charleston Harbor.

DATES: This rule is effective from 8 a.m. on October 1, 2006 until 6 p.m. on October 6, 2006.

ADDRESSES: Documents indicated in this preamble as being available in the docket, are part of docket CGD 07-06-174 and are available for inspection or copying at Coast Guard Sector Charleston, Prevention Department (WWM) between 7 a.m. and 3:30 p.m., Monday through Friday, except Federal holidays.

FOR FURTHER INFORMATION CONTACT: CWO Hunter G. Crider, U.S. Coast Guard Sector Charleston, South Carolina, at (843) 724-7647.

SUPPLEMENTARY INFORMATION:

Regulatory Information

We did not publish a notice of proposed rulemaking (NPRM) for this regulation. Under 5 U.S.C. 553(b)(B), the Coast Guard finds that good cause exists for not publishing an NPRM. An NPRM would be impracticable and contrary to the public interest since the specific details of this event, including the race course location, and dates were not provided to the Coast Guard with sufficient time to publish an NPRM and receive public comments. This regulation is necessary to ensure the safety and security of participants and vessel traffic during this event. The Coast Guard will provide additional notification of this event to the public through broadcast notice to mariners and a Coast Guard Patrol Commander will be on-scene to provide notice to spectators and other vessels in the area.

For the same reasons mentioned above, and under 5 U.S.C. 553(d)(3), the Coast Guard finds that good cause exists for making this rule effective less than 30 days after publication in the Federal Register.

Background and Purpose

The Sunfish World Championship Regatta is a sailing race that will consist of one hundred Sunfish sailboats of identical design and build, each approximately 16 feet in length, participating in race events over several days. In order to ensure safety during this event, the Coast Guard has defined a regulated area within Charleston Harbor where the competition will take place and to ensure the safety and security of the competitors, the Coast Guard is establishing a “no entry” zone around the fleet of participating vessels. When by necessity a course is set across the South Channel, which includes the Atlantic Intracoastal Waterway, the “no entry” zone will have the effect of temporarily closing the South Channel to non-participant vessel traffic in order to allow the fleet to pass safely.

Discussion of Rule

The regulated area contains Charleston Harbor's “Middle Ground”, Anchorage area “Alpha” and is bound by the following GPS points connected to each other in a clockwise direction:

A. 32°46.3′ N 079°53.6′ W

B. 32°47.1′ N 079°52.5′ W

C. 32°43.1′ N 079°52.5′ W

D. 32°45.3′ N 079°55.1′ W

E. 32°46.5′ N 079°55.4′ W

F. 32°46.6′ N 079°54.9′ W

G. 32°46.3′ N 079°54.6′ W and back to point “A”.

While the regulation is enforced, non-participating vessels will be prohibited from anchoring or mooring within the regulated area unless authorized by the Captain of the Port (COTP), Charleston, South Carolina or the Coast Guard Patrol Commander. During the designated race times, the sailing committee will establish and mark one or more race courses within the boundaries of the regulated area. Each course will be designed to have races that last approximately 2 hours in duration. There will be no more than 3 races held on any given day. All races will occur between the hours of 8 a.m. and 6 p.m. local time. Given the intended course designs and skill of the competitors, it is expected that at any given time, the participants will occupy only a portion of the regulated area. A “no entry” zone will follow the fleet around courses set within the regulated area. The “no entry” zone extends 200 yards ahead of the lead vessel and 50 yards from all participants.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the DHS (44 FR 11040, February 26, 1979). The Coast Guard expects the economic impact of this proposal to be so minimal that a full Regulatory Evaluation under paragraph 10e of the regulatory policies and procedures of DHS is unnecessary. This rule is only effective for six hours on each day of the regatta, and will expire thereafter.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000. The Coast Guard certifies under 5 U.S.C. 605(b) that this rule will not have a significant economic impact on a substantial number of small entities. This rule may affect the following entities, some of which may be small entities: The owners or operators of vessels intending to transit through the regulated area of Charleston Harbor during the hours of 8 a.m. to 6 p.m. on each day from October 1, 2006 through October 6, 2006. This special local regulation will not have a significant economic impact on a substantial number of small entities for the following reasons. This regulation will only be enforced a total of 10 hours per day. Further, the courses will be set within the regulated area to minimize the impact on commercial traffic and recreational vessel traffic. Lastly, it is anticipated that the “no entry” zone will only overlay the South Channel less than 6 times per day, at intervals of less than 30 minutes each time.

Assistance for Small Entities

Under section 213(a) of the Small Business Regulatory Enforcement Fairness Act of 1996 (Pub. L. 104-121), we offered to assist small entities in understanding the rule so that they could better evaluate its effects on them and participate in the rulemaking process. If the rule will affect your small business, organization, or government jurisdiction and you have questions concerning its revisions or options for compliance, please contact the person listed under FOR FURTHER INFORMATION CONTACT for assistance in understanding this rule. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(h), of the Instruction, from further environmental documentation. Under figure 2-1, paragraph (34)(h), of the Instruction, an “Environmental Analysis Check List” and a “Categorical Exclusion Determination” are not required for this rule.

List of Subjects in 33 CFR Part 100

Marine Safety, Navigation (water), Reporting and recordkeeping requirements, waterways.

For the reasons discussed in the preamble, the Coast Guard amends 33 CFR part 100 as follows:

PART 100—SAFETY OF LIFE ON NAVIGABLE WATERS

1. The authority citation for part 100 continues to read as follows:

Authority: 33 U.S.C. 1233; Department of Homeland Security Delegation No. 0170.1

2. Add § 100.35T-07-174 to read as follows:

§ 100.35T-07-174 Special Local Regulation; Sunfish World Championship Regatta, Charleston, South Carolina

(a) Regulated Area—The regulated area is bounded by an imaginary line connecting the following coordinates in order as described below:

A. 32°46.3′ N 079°53.6′ W

B. 32°47.1′ N 079°52.5′ W

C. 32°43.1′ N 079°52.5′ W

D. 32°45.3′ N 079°55.1′ W

E. 32°46.5′ N 079°55.4′ W

F. 32°46.6′ N 079°54.9′ W

G. 32°46.3′ N 079°54.6′ W and back to point “A”.

(b) Coast Guard Patrol Commander. The Coast Guard Patrol Commander is a commissioned, warrant, or petty officer of the Coast Guard that has been designated as such by the Captain of the Port, Charleston, South Carolina.

(c) Regulations.

(1) No person or vessel shall be anchored or moored within the regulated area unless authorized by the Coast Guard Captain of the Port of Charleston or Coast Guard Patrol Commander.

(2) Spectators and other non-participant vessels may enter and transit through the regulated area but are prohibited from entering into a mobile buffer zone extending 50 yards in all directions around all participants and extending 200 yards ahead of the lead boat during races.

(3) Spectators and non-participant vessels are prohibited from anchoring, mooring or otherwise stopping their vessel within the confines of any Navigational channel unless authorized or directed by the Coast Guard Patrol Commander.

(d) Enforcement Period. This rule will be enforced from 8 a.m. to 6 p.m. daily from October 1, 2006 through October 6, 2006.

(e) Effective Dates. This rule is effective from October 1 to October 6, 2006.

Dated: September 21, 2006.
J.A. Watson,
Captain, U.S. Coast Guard, Commander, Seventh Coast Guard District, Acting.

[FR Doc. E6-16334 Filed 10-2-06; 8:45 am]

BILLING CODE 4910-15-P